DEPARTMENT OF LABOR

Mine Safety and Health Administration

Proposed Information Collection Request Submitted for Public Comment and Recommendations; Program To Prevent Smoking Underground and in Hazardous Surface Areas (Pertains to Underground Coal Mines)

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Mine Safety and Health Administration (MSHA) is soliciting comments concerning the extension of the information collection related to the 30 CFR 75.1702 and 75.1702-1.

DATES: All comments must be received by midnight Eastern Daylight Savings Time on August 23, 2010.

ADDRESSES: Comments must clearly be identified with the rule title and may be submitted to MSHA by any of the following methods:

(1) Electronic mail: zzMSH-Comments@dol.gov.

(2) Facsimile: (202) 693-9441.

(3) Regular Mail: MSHA, Office of Standards, Regulations, and Variances, 1100 Wilson Blvd., Room 2350, Arlington, VA 22209-3939.

(4) Hand Delivery or Courier: MSHA, Office of Standards, Regulations, and Variances, 1100 Wilson Blvd., Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 317(c) of the Federal Mine Safety and Health Act of 1977 (Mine Act), 30 U.S.C. 877(c), and 30 CFR 75.1702 prohibit persons from smoking or carrying smoking materials underground or in places where there is a fire or explosion hazard. Under the Mine Act and § 75.1702, coal mine operators are required to develop programs to prevent persons from carrying smoking materials, matches, or lighters underground and to prevent smoking in hazardous areas, such as in or around oil houses, explosives magazines, etc. Section 75.1702-1 requires that the mine operator submit the program for searching miners for smoking materials to MSHA for approval. The purpose of the program is to ensure that a fire or explosion hazard does not occur. Section 103(h) of the Mine Act, 30 U.S.C. 813, authorizes MSHA to collect information necessary to carry out its duty in protecting the safety and health of miners.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the FOR FURTHER INFORMATION CONTACT section of this notice, or viewed on the Internet by selecting “Rules & Reg”, and then selecting “FedReg.Docs”. On the next screen, select “Paperwork Reduction Act Supporting Statement” to view documents supporting the Federal Register Notice.

III. Current Actions

This request for collection of information contains notification and recordkeeping provisions for 30 CFR 75.1702 and 75.1702-1 Safety Standards for Underground Coal Mines-Smoking, Prohibition and Smoking Programs. While there is no specific requirement that records be maintained for more than three years, all underground coal mines must have an approved program for searching miners for smoking materials in effect during the entire time they are operating. MSHA requires this program as one of the preliminary plans which must be submitted for approval in accordance with 30 CFR 75.1721(b)(9) prior to commencing the extraction of coal (30 CFR 75.1721—Opening of new underground coal mines, or reopening and reactivating of abandoned or deactivated coal mines, notification by the operator; requirements). Once submitted and approved, revisions to the revised approved plan is only required where the mine ownership changes or the smoker search plan proves to be inadequate to prevent the carrying of smoking articles underground. This collection of information is otherwise consistent with the guidelines in 5 CFR 1320.5. MSHA does not intend to publish the results of this information collection and there are no forms associated with this information collection on which to display the OMB number and expiration date.

There are no certification exceptions identified with this information collection and the collection of this information does not employ statistical methods.

Type of Review: Extension.

Agency: Mine Safety and Health Administration.

OMB Number: 1219-0041.

Frequency: On Occasion.

Affected Public: Business or other for-profit.

Cost to Federal Government: $2,425.68.

Total Burden Respondents: 144.

Total Number of Responses: 144.

Total Burden Hours: 72.

Total Hour Burden Cost (operating/maintaining): $6,098.40

Comments submitted in response to this notice will be summarized and/or included in the request for Office of Management and Budget approval of the information collection request; they will also become a matter of public record.

Dated June 18, 2010.
Patricia W. Silvey,
Director, Office of Standards, and Regulations, and Variances.

[FR Doc. 2010-15269 Filed 6-23-10; 8:45 am]

BILLING CODE 4510-43-P